NUCLEAR REGULATORY COMMISSION

[Docket No. 50-285]

Omaha Public Power District; Notice of Withdrawal of Application for Amendment to Facility Operating License

The U.S. Nuclear Regulatory Commission (NRC/the Commission) has granted the request of Omaha Public Power District (OPPD, the licensee) to withdraw its August 11, 2005, application for proposed amendment to Facility Operating License No. DPR-40 for the Fort Calhoun Station, Unit No. 1, located in Washington County, Nebraska.

The proposed amendment would have revised the Technical Specifications (TSs) pertaining to the volume of trisodium phosphate (TSP) needed in containment. Specifically, this proposed change would have revised TS Figure 2-3, “TSP Volume Required for RCS [Reactor Coolant System] Critical Boron Concentration (ARO [All Rods Out], HZP [Hot Zero Power], No Xenon),” and related technical information used for calculating minimum volumes of TSP required for maintaining sump pH equal to or greater than 7. The amendment was necessary to account for the increase in the RCS volume as result of the planned replacement of the steam generators and pressurizer. The amendment is no longer needed since the NRC staff has approved the OPPD amendment dated August 21, 2006, to remove the TSP and replace it with sodium tetraborate.

The Commission had previously issued a Notice of Consideration of Issuance of Amendment published in the Federal Register on September 27, 2005 (70 FR 56502). However, by letter dated November 30, 2006, the licensee withdrew the proposed change.

For further details with respect to this action, see the application for amendment dated August 11, 2005, as supplemented by letter dated November 3, 2005, and the licensee's letter dated November 30, 2006, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 13th day of December 2006.
For the Nuclear Regulatory Commission.
Alan B. Wang,
Project Manager, Plant Licensing Branch IV, Division of Operating Reactor Licensing, Office of Nuclear Reactor Regulation.

[FR Doc. E6-21673 Filed 12-19-06; 8:45 am]

BILLING CODE 7590-01-P